DEPARTMENT OF ENERGY

Federal Energy Regulatory Commission

[Project No. 13645-000]

Alaska Power and Telephone Company; Notice of Preliminary Permit Application Accepted for Filing and Soliciting Comments, Motions To Intervene, and Competing Applications

September 16, 2010.

On December 21, 2009, the Alaska Power and Telephone Company filed an application for a preliminary permit, pursuant to section 4(f) of the Federal Power Act (FPA), proposing to study the feasibility of the Schubee Lake Hydroelectric Project to be located near Schubee Lake in the Boroughs of Skagway and Haines, Alaska near Haines, Alaska. The sole purpose of a preliminary permit, if issued, is to grant the permit holder priority to file a license application during the permit term. A preliminary permit does not authorize the permit holder to perform any land-disturbing activities or otherwise enter upon lands or waters owned by others without the owners' express permission.

The proposed project has two alternatives for the lake intake: a siphon intake and a conventional intake. The proposed project also has two alternatives for the penstock: above-ground and directional-bored.

The siphon intake alternative includes: (1) A fabricated steel intake screen; (2) an approximately 200-foot-long, 24-inch-diameter high-density polyethylene pipe connecting the intake screen to the pumphouse; (3) an 8-foot-long, 24-inch-diameter vacuum tank and a vacuum pump; (4) a siphon pumphouse; and (5) a 269-acre (maximum pool), 5,000 acre-foot active storage capacity reservoir.

The conventional intake alternative includes: (1) A 20-foot-high, 200-foot-long timber, rockfill, and concrete dam; (2) an 8-foot-long, 8-foot-wide, 20-foot-high concrete intake box; and (3) a 290-acre (maximum pool), 6,000 acre-foot active storage capacity reservoir.

The above-ground penstock alternative includes: (1) A 7,100-foot-long, 24-inch-diameter steel pipe with polyurethane coating and lining; (2) concrete and fabricated steel saddle supports; (3) reinforced concrete thrust blocks; and (4) expansion joints and/or sleeve couplings.

The directional-bored penstock alternative includes: (1) A 7,200-foot-long, 28-inch-diameter tunnel, bored with directional-drilling equipment by successive backreamings of a pilot hole; (2) a 7,200-foot-long, 24-inch-diameter steel liner; and (3) grout between lining and tunnel as required.

In all of the alternatives, the project would also consist of the following: (1) A new powerhouse; (2) a turbine/generator unit with an installed capacity of 4,900 kilowatts; and (3) a 9-mile-long, 34.5-kilovolt transmission line connected to the grid in the Haines area via a submarine cable.

Annual energy production is estimated to be 25 gigawatt-hours.

Applicant Contact: Mr. Robert S. Grimm, Alaska Power and Telephone Company, P.O. Box 3222, Port Townsend, WA 98368; phone: (360) 385-1733, x120.

FERC Contact: Dianne Rodman (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13645-000) in the docket number field to access the document. For assistance, contact FERC Online Support.

Kimberly D. Bose,
Secretary.

[FR Doc. 2010-23683 Filed 9-21-10; 8:45 am]

BILLING CODE 6717-01-P